DEPARTMENT OF COMMERCE

International Trade Administration

[A-570-055]

Carton-Closing Staples From China: Final Results of Sunset Review and Revocation of Order

AGENCY: Enforcement and Compliance, International Trade Administration, Department of Commerce.

SUMMARY: On April 10, 2023, the U.S. Department of Commerce (Commerce) initiated the first sunset review of the antidumping duty (AD) order on carton-closing staples from China. Because no domestic interested party filed a timely notice of intent to participate in this sunset review, consistent with section 751(c)(3)(A) of the Tariff Act of 1930, as amended (the Act), Commerce is revoking the AD order on carton-closing staples from China.

DATES: Applicable May 8, 2023.

FOR FURTHER INFORMATION CONTACT: Henry Wolfe, AD/CVD Operations, Office VIII, Enforcement and Compliance, International Trade Administration, U.S. Department of Commerce, 1401 Constitution Avenue NW, Washington, DC 20230; telephone: (202) 482-5848

SUPPLEMENTARY INFORMATION:

Background

On May 8, 2018, Commerce issued an AD order on carton-closing staples from China.¹ On April 3, 2023, Commerce published notice of the initiation of the first sunset review of the Order pursuant to section 751(c) of the Act and 19 CFR 351.218(c).²

¹ See Carton-Closing Staples from the People's Republic of China: Antidumping Duty Order, 83 FR 20792 (May 8, 2018) (Order).

² See Initiation of Five-year (Sunset) Reviews, 88 FR 19616 (April 3, 2023) (Initiation Notice).

We did not receive a timely notice of intent to participate in this sunset review from any domestic interested party within fifteen days of the publication of the Initiation Notice in the Federal Register, in accordance with 19 CFR 351.218(d)(1)(i). Pursuant to 19 CFR 351.218(d)(1)(iii)(A), a domestic interested party that does not file a notice of intent to participate in the sunset review will be considered not willing to participate in the review. As a result, pursuant 19 CFR 351.218(d)(1)(iii)(B)(1), Commerce concludes that no domestic interested party responded to the Initiation Notice under section 751(c)(3)(A) of the Act. On April 24, 2023, Commerce notified the U.S. International Trade Commission (ITC) in writing that we intended to revoke the Order, consistent with 19 CFR 351.218(d)(1)(iii)(B)(2).³

³ See Commerce's Letter, “Sunset Reviews Initiated on April 3, 2023,” dated April 24, 2023.

Scope of the Order

The scope of the Order is carton-closing staples. Carton-closing staples may be manufactured from carbon, alloy, or stainless steel wire, and are included in the scope of the investigation regardless of whether they are uncoated or coated, regardless of the type of coating.

Carton-closing staples are generally made to American Society for Testing and Materials (ASTM) specification ASTM D1974/D1974M-16, but can also be made to other specifications. Regardless of specification, however, all carton-closing staples meeting the scope description are included in the scope. Carton-closing staples include stick staple products, often referred to as staple strips, and roll staple products, often referred to as coils. Stick staples are lightly cemented or lacquered together to facilitate handling and loading into stapling machines. Roll staples are taped together along their crowns. Carton-closing staples are covered regardless of whether they are imported in stick form or roll form.

Carton-closing staples vary by the size of the wire, the width of the crown, and the length of the leg. The nominal leg length ranges from 0.4095 inch to 1.375 inches and the nominal crown width ranges from 1.125 inches to 1.375 inches. The size of the wire used in the production of carton-closing staples varies from 0.029 to 0.064 inch (nominal thickness) by 0.064 to 0.100 inch (nominal width).

Carton-closing staples subject to this Order are currently classifiable under subheadings 8305.20.00.00 and 7317.00.65.60 of the Harmonized Tariff Schedule of the United States (HTSUS). While the HTSUS subheadings and ASTM specification are provided for convenience and for customs purposes, the written description of the subject merchandise is dispositive.

Revocation

Pursuant to section 751(c)(3)(A) of the Act and 19 CFR 351.218(d)(1)(iii)(B)(3), if no domestic interested party responds to a notice of initiation, Commerce shall, within 90 days after the initiation of review, revoke the order. Because no domestic interested party timely filed a notice of intent to participate in this sunset review, we determine that no domestic interested party is participating in this sunset review. Therefore, consistent with section 751(c)(3)(A) of the Act, 19 CFR 351.218(d)(1)(iii)(B)(3), and 19 CFR 351.222(i)(1)(i), we are revoking the Order.

Effective Date of Revocation

Pursuant to section 751(c)(3)(A) of the Act and 19 CFR 351.222(i)(2)(i), Commerce intends to instruct U.S. Customs and Border Protection (CBP) to terminate the suspension of liquidation of the merchandise subject to the Order entered, or withdrawn from the warehouse, on or after May 8, 2023, the fifth anniversary of the date of the publication of the Order.⁴ Entries of subject merchandise prior to the effective date of revocation will continue to be subject to suspension of liquidation and AD deposit requirements. Commerce may conduct administrative reviews of subject merchandise entered prior to the effective date of revocation in response to appropriately filed requests for reviews.

⁴ See Order.

Notification to Interested Parties

We are issuing and publishing these final results of sunset review and revocation of the Order in accordance with sections 751(c) and 777(i)(1) of the Act, and 19 CFR 351.218(d)(1)(iii)(B)(3) and 19 CFR 351.222(i)(1)(i).

Dated: June 15, 2023.
Abdelali Elouaradia,
Deputy Assistant Secretary for Enforcement and Compliance.

[FR Doc. 2023-13271 Filed 6-21-23; 8:45 am]

BILLING CODE 3510-DS-P